DEPARTMENT OF HEALTH AND HUMAN SERVICES

Centers for Disease Control and Prevention

[60Day-13-0870]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly Lane, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Monitoring and Reporting System for Chronic Disease Prevention and Control Programs (OMB No. 0920-0870, exp. 11/30/2013)—Revision—National Center for Chronic Disease Prevention and Health Promotion (NCCDPHP), Centers for Disease Control and Prevention (CDC).

Background and Brief Description

Chronic diseases are the leading causes of death and disability in the United States, accounting for seven of every ten deaths and affecting the quality of life for 90 million Americans. Chronic diseases represent 83% of all U.S. health care spending.

Tobacco use is the single most preventable cause of death and disease in the United States. Tobacco use causes heart disease and strokes, lung cancer and many other types of cancer, chronic obstructive pulmonary disease, lung disorders, pregnancy problems, sudden infant death syndrome, gum disease and vision problems. Approximately 443,000 Americans die from tobacco-related illnesses annually, causing more deaths than HIV/AIDS, alcohol use, cocaine use, heroin use, homicides, suicides, motor vehicle crashes, and fires combined. For every person who dies from tobacco use, 20 more people suffer with at least 1 serious tobacco-related illness. There are also severe socio-economic consequences of tobacco use as the U.S. spends approximately $193 billion annually in direct medical expenses and lost productivity.

The National Center for Chronic Disease Prevention and Health Promotion (NCCDPHP) provides funding to health departments in States, territories, and the District of Columbia to implement and evaluate chronic disease prevention and control programs. Traditionally, support has been provided through cooperative agreements that are specific to a chronic disease or condition. In 2009, CDC announced a new cooperative agreement program for collaborative chronic disease prevention and health promotion programs (RFA DP09-901; authorized under sections 301, 307, 310, and 311 of the Public Health Service Act [42 U.S.C. sections 241 and 247(b)(k)]). The new program streamlined funding, communication and collaboration in four areas that had previously been funded and evaluated independently: Tobacco control, diabetes prevention and control, state-based surveillance through the Behavioral Risk Factor Surveillance System (BRFSS), and the Healthy Communities initiative.

Due to organizational and funding changes within CDC, funding under the DP09-901 announcement has been discontinued for all activities except tobacco control. The tobacco control component is ongoing with 53 awardees: The 50 States, the District of Columbia, Puerto Rico, and the Virgin Islands. These cooperative agreements will end on March 28, 2014, and final reports on awardee activities are due to CDC approximately 90 days after the end of the funding period.

In order to maintain continuity in progress reporting through the end of the cooperative agreement, CDC requests OMB approval to continue the collection of information from tobacco control program awardees for one year. Awardees will continue to submit semi-annual progress reports through a Web-based management information system (MIS). There are no changes to the number of tobacco control program respondents, the content of the information collection, the frequency of information collection, or the estimated burden per response. However, the total estimated burden hours will decrease due to discontinuation of reporting requirements for the diabetes prevention activities, state BRFSS activities, and Healthy Communities activities that were part of the original information collection request.

CDC will continue to collect information about each awardee's tobacco control objectives, planning, activities, resources, partnerships, strategies, and progress toward meeting objectives. Awardees will use the information reported through the electronic MIS to manage and coordinate their activities and to improve their efforts. CDC will use the information reported through the MIS to document and monitor each awardee's progress and to make adjustments, as needed, in the type and level of technical assistance provided to them. The information collection allows CDC to oversee the use of federal funds, and identify and disseminate information about successful strategies implemented by awardees. CDC also uses the information to respond to Congressional and stakeholder inquiries about awardee activities, program implementation, and program impact.

Progress reporting through the MIS is required for DP09-901 awardees. There are no costs to respondents other than their time.

Estimated Annualized Burden Hours

Type of respondents | Number of respondents | Number of responses per respondent | Average burden per response (in hours) | Total burden
State Tobacco Control Program | 53 | 2 | 6 | 636

Kimberly S. Lane,
Deputy Director, Office of Scientific Integrity, Office of the Associate Director for Science, Office of the Director, Centers for Disease Control and Prevention.

[FR Doc. 2013-17525 Filed 7-19-13; 8:45 am]

BILLING CODE 4163-18-P